DEPARTMENT OF COMMERCE

International Trade Administration

[C-580-818]

Certain Cold-Rolled and Corrosion-Resistant Carbon Steel Flat Products From Korea: Amended Final Affirmative Countervailing Duty Determinations in Accordance with Decision Upon Remand

AGENCY: Import Administration, International Trade Administration, Department of Commerce.

ACTION: Notice of amendment to final affirmative countervailing duty determinations in accordance with decision upon remand.

SUMMARY: On April 5, 2000, the Court of International Trade (CIT) remanded this case to recalculate duties owed in conformity with the Court of Appeals for the Federal Circuit's (CAFC's) decision in AK Steel Corp., v. United States, 193 F.3d 1367 (Fed. Cir. 1999) (AK Steel). In accordance with that remand order, on June 19, 2000, the Department issued its Final Results of Redetermination on Remand Pursuant to LaClede Steel Co., et al. v. United States, Slip Op. 00-36 (CIT April 5, 2000) (Second Remand). In the Second Remand, the Department recalculated the program rates, the company-specific total ad valorem and the country-wide rate.

EFFECTIVE DATE: March 27, 2001.

FOR FURTHER INFORMATION CONTACT: Tipten Troidl or Richard Herring, AD/CVD Enforcement Office VI, Group II, Import Administration, U.S. Department of Commerce, Room 4012, 14th Street and Constitution Avenue, NW, Washington, DC 20230; telephone (202) 482-2786.

SUPPLEMENTARY INFORMATION: In British Steel P.L.C. v. United States, 941 F. Supp. 119 (CIT 1996) (British Steel IV), the CIT upheld the Department's final determination in the Final Affirmative Countervailing Duty Determinations and Final Negative Critical Circumstances Determinations: Certain Steel Products from Korea, 58 FR 37338 (July 9, 1993) (Steel Products from Korea). Respondents challenged the CIT's ruling, and on October 1, 1999, the CAFC issued its decision in AK Steel, affirming-in-part and reversing-in-part the decision of the CIT in British Steel IV. In AK Steel, the CAFC affirmed that the Korean government exercised de jure control of the financial system to benefit the steel industry through 1984. AK Steel, 193 F.3d at 1371. However, the CAFC determined that the Department's conclusion that there is a causal nexus between the Korean government's control of the financial system and the domestic loans received by the steel industry from private sources after 1985 was unsupported by substantial evidence. Id. at 1376. The CAFC reversed the portion of the CIT's judgment in British Steel IV concerning the imposition of countervailing duties based on domestic credit provided to the Korean steel industry by private Korean lenders. Id. In addition, the CAFC determined that loans from foreign lenders are not countervailable subsidies under the terms of the then existent statute. Id. at 1378. On April 5, 2000, the CIT remanded this case to the Department to recalculate duties owed in conformity with the CAFC's decision. In accordance with that order, on June 19, 2000, the Department issued the Second Remand, where the Department recalculated the program rates, the company-specific total ad valorem, and the country-wide rate.

Remand Results

In accordance with the Court's instructions, we recalculated respondents' net subsidy rates using a methodology which ensures that countervailing duties are not based on domestic credit provided to the Korean steel industry by private Korean lenders after 1984 and are not based on preferential access to foreign credit. In addition, we recalculated the country-wide rate by taking the weighted-average of all of the companies' company-specific program rates. We then determined whether each company's individual company-specific rate was significantly different from the country-wide rate. In the event a company's rate was significantly different, we assigned it an individually-calculated rate. Otherwise, we assigned the company the country-wide rate. Listed below are the rates for corrosion-resistant products in the first table and cold-rolled products in the second table.

The final countervailing duty rates for the 1991 period of investigation are as follows:

Manufacturer/Exporter of corrosion-resistant | Ad Valorem rate
Pohang Iron & Steel Co., Ltd. (POSCO) | 1.15
Dongbu Steel Co., Ltd. (Dongbu) | 1.15
Union Steel Manufacturing (Union) | De minimis
Country-Wide Rate | 1.15

Manufacturer/Exporter of cold-rolled | Ad Valorem rate
Pohang Iron & Steel Co., Ltd. (POSCO) | 1.45
Dongbu Steel Co., Ltd. (Dongbu) | 1.45
Union Steel Manufacturing (Union) | De minimis
Country-Wide Rate | 1.45

The Department has been enjoined from issuing any liquidation instructions to the U.S. Customs Service (Customs) until the conclusion of litigation of this case. Litigation has been completed, and therefore the Department will issue liquidation instructions directly to Customs. The Department will instruct Customs to assess countervailing duties on all appropriate entries from December 7, 1992, the date of the publication of the Preliminary Affirmative Countervailing Duty Determination and Alignment of Final Countervailing Duty Determination with Final Antidumping Duty Determinations: Certain Steel Products from Korea (57 FR 57761), when we first suspended liquidation, through December 31, 1999; the period which would have been covered by the latest administrative review. We are issuing liquidation instructions through December 31, 1999, because, although there have been no administrative reviews covering the period through December 31, 1999, the Department has been enjoined from issuing liquidation instructions pending the resolution of this litigation. With the Court's affirmation of the results of the Department's Second Remand, we are now able to issue liquidation instructions for this time period.

Union Steel Manufacturing (Union) is excluded from both the cold-rolled and the corrosion-resistant orders because it received a de minimis ad valorem rate in each investigation. Therefore, we will instruct Customs to liquidate entries from Union without regard to countervailing duties. In addition, the order on cold-rolled carbon steel flat products was revoked effective January 1, 2000, pursuant to section 751(c) of the Tariff Act, as amended. See Notice of Final Results of Sunset Review and Revocation of Countervailing Duty Order: Cold-Rolled Carbon Steel Products from Korea, 65 FR 78469 (December 15, 2000). Therefore, we instructed Customs to terminate suspension of liquidation for all entries of subject merchandise without regard to CVD duties after January 1, 2000, and there are no cash deposit requirements in effect for cold-rolled steel products. However, the order on corrosion-resistant carbon steel flat products remains in effect. Since there have not been any intervening administrative reviews with respect to the order on corrosion-resistant carbon steel flat products, the above rates will affect the cash deposit requirements currently in effect. The cash deposit requirement for corrosion-resistant carbon steel flat products will be 1.15 percent.

This amendment to the final results of countervailing duty determinations notice is in accordance with section 705(d) of the Tariff Act of 1930, as amended, (19 USC 1671d(d)) and section 351.210(c) of the Department's regulations. Effective January 20, 2001, Bernard T. Carreau is fulfilling the duties of the Assistant Secretary for Import Administration.

Dated: March 20, 2001.
Bernard T. Carreau,
Deputy Assistant Secretary, Import Administration.

[FR Doc. 01-7552 Filed 3-26-01; 8:45 am]

BILLING CODE 3510-DS-P